DEPARTMENT OF ENERGY

Federal Energy Regulatory Commission

Combined Notice of Filings #1

Take notice that the Commission received the following exempt wholesale generator filings:

Docket Numbers: EG19-78-000.

Applicants: Avangrid Renewables, LLC.

Description: Montague Wind Power Facility, LLC Notice of Self-Certification of Exempt Wholesale Generator Status.

Filed Date: 3/15/19.

Accession Number: 20190315-5236.

Comments Due: 5 p.m. ET 4/5/19.

Docket Numbers: EG19-79-000.

Applicants: Otter Creek Wind Farm LLC.

Description: Otter Creek Wind Farm LLC Notice of Self-Certification of Exempt Wholesale Generator Status.

Filed Date: 3/15/19.

Accession Number: 20190315-5237.

Comments Due: 5 p.m. ET 4/5/19.

Docket Numbers: EG19-80-000.

Applicants: La Joya Wind, LLC.

Description: La Joya Wind, LLC Notice of Self-Certification of Exempt Wholesale Generator Status.

Filed Date: 3/15/19.

Accession Number: 20190315-5238.

Comments Due: 5 p.m. ET 4/5/19.

Take notice that the Commission received the following electric rate filings:

Docket Numbers: ER12-2708-005.

Applicants: Potomac-Appalachian Highline Transmission, LLC, PJM Interconnection, L.L.C.

Description: Report Filing: PATH submits refund report of the PATH Companies in ER09-1256 and ER12-2708 to be effective N/A.

Filed Date: 3/18/19.

Accession Number: 20190318-5034.

Comments Due: 5 p.m. ET 4/8/19.

Docket Numbers: ER19-256-003.

Applicants: Wisconsin Power and Light Company.

Description: Tariff Amendment: Amendment to WPL Wholesale Formula Rate Application to be effective 12/31/2018.

Filed Date: 3/15/19.

Accession Number: 20190315-5219.

Comments Due: 5 p.m. ET 3/25/19.

Docket Numbers: ER19-257-003.

Applicants: Interstate Power and Light Company.

Description: Tariff Amendment: Amendment to IPL Wholesale Formula Rate Application to be effective 12/31/2018.

Filed Date: 3/15/19.

Accession Number: 20190315-5220.

Comments Due: 5 p.m. ET 3/25/19.

Docket Numbers: ER19-650-001.

Applicants: Midcontinent Independent System Operator, Inc.

Description: Compliance filing: 2019-03-18_Compliance to Resource Availability and Need LMR Availability Filing to be effective 2/20/2019.

Filed Date: 3/18/19.

Accession Number: 20190318-5054.

Comments Due: 5 p.m. ET 4/8/19.

Docket Numbers: ER19-850-000

Applicants: Plymouth Rock Energy, LLC.

Description: Supplement to January 22, 2019 Plymouth Rock Energy, LLC tariff filing (Notice of Non-Material Changed in Status).

Filed Date: 3/15/19.

Accession Number: 20190315-5245.

Comments Due: 5 p.m. ET 4/5/19.

Docket Numbers: ER19-1342-000.

Applicants: NMRD Data Center III, LLC.

Description: Baseline eTariff Filing: NMRD Data Center III Market-Based Rate Tariff to be effective 5/15/2019.

Filed Date: 3/18/19.

Accession Number: 20190318-5000.

Comments Due: 5 p.m. ET 4/8/19.

Docket Numbers: ER19-1343-000

Applicants: NMRD Data Center II, LLC.

Description: Baseline eTariff Filing: NMRD Data Center II Market-Based Rate Tariff to be effective 5/15/2019.

Filed Date: 3/18/19.

Accession Number: 20190318-5001.

Comments Due: 5 p.m. ET 4/8/19.

Docket Numbers: ER19-1359-000.

Applicants: The United Illuminating Company.

Description: Application of The United Illuminating Company for Transmission Rate Incentives.

Filed Date: 3/15/19.

Accession Number: 20190315-5249.

Comments Due: 5 p.m. ET 4/5/19.

Docket Numbers: ER19-1364-000.

Applicants: Midcontinent Independent System Operator, Inc.

Description: § 205(d) Rate Filing: 2019-03-18_SA 3267_Astoria Substation MPFCA (J493 J510) OTP to be effective 3/19/2019.

Filed Date: 3/18/19.

Accession Number: 20190318-5037.

Comments Due: 5 p.m. ET 4/8/19.

Docket Numbers: ER19-1365-000.

Applicants: Midcontinent Independent System Operator, Inc.

Description: § 205(d) Rate Filing: 2019-03-18_SA 3268_Astoria Substation BSSB In Out MPFCA (J493 J510) OTP NSP to be effective 3/19/2019.

Filed Date: 3/18/19.

Accession Number: 20190318-5061.

Comments Due: 5 p.m. ET 4/8/19.

Docket Numbers: ER19-1366-000.

Applicants: PJM Interconnection, L.L.C.

Description: § 205(d) Rate Filing: Original ICSA, SA No. 5307; Queue No. AC1-068 to be effective 2/15/2019.

Filed Date: 3/18/19.

Accession Number: 20190318-5076.

Comments Due: 5 p.m. ET 4/8/19.

Docket Numbers: ER19-1367-000.

Applicants: Midcontinent Independent System Operator, Inc.

Description: § 205(d) Rate Filing: 2019-03-18_SA 3270 Johnson Junction-Ortonville Line MPFCA (J493 J526) OTP to be effective 3/19/2019.

Filed Date: 3/18/19.

Accession Number: 20190318-5074.

Comments Due: 5 p.m. ET 4/8/19.

Docket Numbers: ER19-1368-000.

Applicants: Manitowoc Public Utilities.

Description: § 205(d) Rate Filing: Normal filing 2019 to be effective 4/1/2019.

Filed Date: 3/18/19.

Accession Number: 20190318-5077.

Comments Due: 5 p.m. ET 4/8/19.

Docket Numbers: ER19-1369-000.

Applicants: PacifiCorp.

Description: Tariff Cancellation: Termination of Invenergy Wind E&P Agreements to be effective 5/20/2019.

Filed Date: 3/18/19.

Accession Number: 20190318-5079.

Comments Due: 5 p.m. ET 4/8/19.

Docket Numbers: ER19-1370-000.

Applicants: PJM Interconnection, L.L.C.

Description: § 205(d) Rate Filing: Original ICSA, SA No. 5308; Queue No. AC1-069 to be effective 2/15/2019.

Filed Date: 3/18/19.

Accession Number: 20190318-5080.

Comments Due: 5 p.m. ET 4/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2019.
Nathaniel J. Davis, Sr.,
Deputy Secretary.

[FR Doc. 2019-05484 Filed 3-21-19; 8:45 am]

BILLING CODE 6717-01-P